ENVIRONMENTAL PROTECTION AGENCY

[ER-FRL-6608-2]

Environmental Impact Statements; Notice of Availability

Responsible Agency: Office of Federal Activities, General Information (202) 564-7167 or www/epa.gov/oeca/ofa Weekly receipt of Environmental Impact Statements filed June 05, 2000 through June 09, 2000 pursuant to 40 CFR 1506.9.

EIS No. 000178, DRAFT EIS, COE, NE, Sand Creek Watershed Restoration Project, To Develop Environmental Restoration, City of Wahoo, Saunders County, NE, Due: July 31, 2000, Contact: Kevin Mayberry (402) 221-4020.

EIS No. 000179, FINAL EIS, AFS, UT, South Manti Timber Salvage, To address Ecological and Economic Values affected by Spruce Beetle Activity in the South Manti Project, Manti-La National Forest, Ferron-Price and Sanpete Ranger Districts, Sanpete and Sevier Counties, UT, Due: July 17, 2000, Contact: Don Fullmer (435) 637-2817.

EIS No. 000180, DRAFT EIS, NRC, MS, New Porters Bayou Watershed Plan, Reducing Flood and Drainage Damage To Cropland, Improvements to Watershed Channels, City of Shaw, Bolivar and Sunflower Counties, MS, Due: July 31, 2000, Contact: Homer L. Wilkes (601) 965-5205.

EIS No. 000181, FINAL EIS, IBR, CA, Lower Mokelumne River Restoration Program, Implementation, Resource Management Plan, San Joaquin County, CA, Due: July 17, 2000, Contact: Buford Holt (530) 275-1554.

EIS No. 000182, FINAL EIS, AFS, AK, Skipping Cow Timber Sale, Harvesting Timber, South half of Zarembo Island, Tongass National Forest, Wrangell Ranger District, Due: July 17, 2000, Contact: Jerry Jordan (907) 874-2323.

EIS No. 000183, DRAFT EIS, NPS, LA, Cane River Creole National Historical Park, General Management Plan, Natchitoches Parish, LA, Due: August 15, 2000, Contact: Jerry Belson (318) 352-0383.

EIS No. 000184, DRAFT EIS, COE, MS, TN, Wolf River, Memphis and Tennessee Feasibility Study, Flood Control and Drainage Improvements, Marshall, Benton and Tippah Counties, MS and Shelby, Fayette and Harderman, TN, Due: July 31, 2000, Contact: Richard Hite (901) 544-0706.

EIS No. 000185, DRAFT EIS, AFS, WV, Fernow Experimental Forest, Implementation of New Research Studies, Monongahela National Forest Land and Resource Management Plan, Tucker County, WV, Due: July 31, 2000, Contact: Mary Beth Adams (304) 478-2000.

EIS No. 000186, REVISED DRAFT EIS, COE, CA, Delta Wetlands Project, Construction and Operation Revised Information for the Water Storage Project on Four Islands in the Sacramento-San Joaquin Delta, Approval of Permits, San Joaquin and Contra Costa Counties, CA, Due: July 31, 2000, Contact: Mike Finan (916) 557-5324.

EIS No. 000187, FINAL SUPPLEMENT, NOA, Atlantic Tunas, Swordfish and Sharks, Highly Migratory Species Fishery Management Plan, Due: July 17, 2000, Contact: Rebecca Lent (202) 482-5181.

EIS No. 000188, FINAL EIS, NPS, WA, Whitman Mission National Historic Site, General Management Plan, Development Concept Plan, Implementation, Walla Walla County, WA, Due: July 17, 2000, Contact: Francis T. Darby (509) 522-6360.

Dated: June 13, 2000
Ken Mittelholtz,
Environmental Protection Specialist, Office of Federal Activities.

[FR Doc. 00-15303 Filed 6-15-00; 8:45 am]

BILLING CODE 6560-50-U